DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: School Climate Survey for the National Cross-Site Evaluation of Safe School/Healthy Student (SS/HS) Initiative Grants-NEW.

The SS/HS Initiative is a collaborative grant program supported by three Federal departments—the U.S. Departments of Health and Human Services, Education, and Justice. The program is authorized under the Elementary and Secondary Education Act of 1965, as amended, and the Higher Education Act of 1965, Title IV, Part A, Subpart 2 (National Programs), Section 4121 (Federal Activities). It is also authorized under Section 581 of the Public Health Service Act.

This initiative, instituted by Congress following the murderous assaults at Columbine High School in Colorado, is designed to provide Local Educational Agencies (LEAs), including school districts and multi-district regional consortia, with 3 years of funding to simultaneously improve school safety, student access to mental health services, the reduction of violence and substance abuse, school relationships with the larger community, and early childhood preparation for learning. Collectively, Congress expects these changes to be reflected in improved school climate.

Local Education Agencies (LEAs) serve as the primary applicants for SS/HS grants, but the LEAs are required to establish formal partnerships with the local mental health system, the local law enforcement agency, and the local juvenile justice agency. Other partners often include public and private social services agencies, businesses, civic organizations, the faith community, and private citizens. As a result of these partnerships, comprehensive plans are developed, implemented, evaluated, and sustained with the goals of promoting the healthy development of children and youth, fostering their resilience in the face of adversity, and preventing violence.

From FY 1999 through FY 2004, grants of $1 million to $3 million annually for 3 years were awarded to 190 LEAs, for a total of $916 million. Approximately 40 new SS/HS grants were awarded in FY 2005. These grants are providing support for rural, tribal, suburban, and urban communities that include diverse racial and ethnic groups across the country.

In compliance with the Government Performance and Results Act (GPRA) of 1993, grantees are required to collect and report data that measure the results of the programs implemented with this grant. Specifically, grantees are required to collect and report information on the following GPRA indicators:

1. The percentage of SS/HS grant sites that experience a decrease in the number of violent incidents at schools.

2. The percentage of SS/HS grant sites that experience a decrease in substance abuse.

3. The percentage of SS/HS grant sites that improve school attendance.

4. The percentage of SS/HS grant sites that increase mental health services to students and families.

In addition to GPRA measures, the Federal Evaluation Work Group of the Safe School/Healthy Students (SS/HS) Initiative national evaluation, comprised of Federal officials representing the U.S. Departments of Education, Health and Human Services, and Justice, determined that information on changes in school climate is also required to provide a direct basis of comparison for performance with subsequent cohorts of grantees. Although GPRA measures monitor changes in individual outcomes among students, GPRA measures have been found to provide an incomplete metric of performance in terms of observed in changes in overall “school climate.”

The SS/HS National Evaluation Team proposes to adopt the staff version of the California Healthy Kids Survey for this purpose. This instrument contains 43 multiple choice questions that are used to obtain school staff perceptions of student behavior and attitudes, school programs and policies, and the overall school climate as they relate to student well-being and learning. It deals with such issues as truancy, safety, harassment, substance abuse, school connectedness and learning supports. The instrument, modified slightly to form the SS/HS School Climate Survey, will track changes in school climate in schools targeted for program services under the SS/HS Initiative. In the absence of the School Climate Survey, there would be no common, cross-site measure of performance across SS/HS initiative grantees. In practice, the School Climate Survey will be administered electronically among approximately 67,500 local educational system employees. These employees will be encouraged to log onto a Web site during each year that their school benefits from the grant to answer questions concerning their perception of student behavior and safety at the school.

The burden estimate for the annual survey is as follows:

Number of respondents | Responses per respondent | Burden/ response (hours) | Total annual burden (hours)
70,875 | 1 | 0.117 | 8,269

Written comments and recommendations concerning the proposed information collection should be sent by April 4, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: February 27, 2007.
Patricia S. Bransford,
Acting Director, Office of Program Services.

[FR Doc. E7-3764 Filed 3-2-07; 8:45 am]

BILLING CODE 4162-20-P